DEPARTMENT OF HEALTH AND HUMAN SERVICES

National Institutes of Health

Center for Scientific Review; Amended Notice of Meeting

Notice is hereby given of a change in the meeting of the Neurotransporters, Receptors, and Calcium Signaling Study Section, October 15, 2009, 8:30 a.m. to October 16, 2009, 6 p.m., Palomar Hotel, 2121 P Street, NW., Washington, DC, 20037 which was published in the Federal Register on September 22, 2009, 74 FR 48269-48273.

The meeting will be one day only October 16, 2009, from 8 a.m. to 8 p.m. The meeting location remains the same. The meeting is closed to the public.

Dated: September 24, 2009.
Jennifer Spaeth,
Director, Office of Federal Advisory Committee Policy.

[FR Doc. E9-23600 Filed 9-30-09; 8:45 am]

BILLING CODE 4140-01-M